Proclamation 10557 of April 26, 2023

70th Anniversary of the Lavender Scare

By the President of the United States of America

A Proclamation

Our Nation has made tremendous progress in advancing the cause of equality for LGBTQI+ Americans. To keep building on that progress, we must reflect honestly on the darkest chapters of our story and on how far we have come. Seventy years ago, as the Cold War set in, President Eisenhower signed an Executive Order banning LGBTQI+ Americans from serving in the Federal Government. This action codified a shameful chapter in our Nation's history known as the “Lavender Scare.” It was a decades-long period when 5,000 to 10,000 LGBTQI+ Federal employees were investigated, were interrogated, and lost their jobs simply because of who they were and whom they loved.

On this anniversary, we acknowledge the importance of telling the complete history of our Nation, reflecting on the lives changed by this discrimination, honoring the courageous Americans who fought to end this injustice, and celebrating the contributions of today's proud LGBTQI+ public servants—including members of our Armed Forces.

Our Nation was founded on the sacred idea that all of us are created equal and deserve to be treated equally under our laws. But for so many members of the LGBTQI+ community, hate, discrimination, and isolation throughout our country's history have denied them the full promise of America. The Lavender Scare epitomized—and institutionalized—this injustice. As LGBTQI+ employees were forced out of the workforce, the Federal Government attempted to defend its policies by propagating false and hateful stereotypes—accusing this community of being a threat to our national security and unworthy of public trust. Employees who were fired under these policies often lost future employment, other opportunities, and even relationships with their own families. Many endured poverty and public disgrace. Some took their own lives as a result of the trauma they had to bear.

While this is a story of profound injustice, it is also a story of remarkable bravery. From seeking relief in the courts to picketing in front of the White House, activists stood up for their rights and helped lay the foundation for the modern-day LGBTQI+ civil rights movement. One such trailblazer was Franklin Kameny, an Army astronomer, who after being fired because he was gay, dedicated over 50 years of his life to activism and helping LGBTQI+ workers stand up for their rights. In 2009, I was proud to meet Frank Kameny in the Oval Office as President Obama and I officially expanded many Federal benefits to same-sex partners of Government employees.

I am equally proud to have mandated additional protections for the fundamental rights of LGBTQI+ Americans. I have appointed barrier-breaking LGBTQI+ leaders to the highest levels of Government, including the first openly gay Senate-confirmed Cabinet Secretary, the first two openly transgender Americans to be confirmed by the United States Senate, and the first open lesbian to achieve the rank of Ambassador. When Americans tune in to the daily White House press briefing, they see the first openly gay White House Press Secretary representing my Administration on the world stage.

But this is just the beginning. I rescinded the discriminatory ban on transgender service members, paving the way for these brave Americans to once again serve openly in the United States military. I signed an Executive Order on Advancing Diversity, Equity, Inclusion, and Accessibility in the Federal Workforce, taking additional steps to ensure that LGBTQI+ public servants are treated with dignity and respect. I also signed a landmark Executive Order charging the Federal Government to prevent and combat discrimination on the basis of sexual orientation and gender identity. Federal agencies have since strengthened or clarified protections for LGBTQI+ Americans in housing, health care, education, employment, credit and lending services, and the criminal justice system. Just last year, I proudly signed the Respect for Marriage Act to defend the rights of LGBTQI+ and interracial couples.

The struggle for equal justice is not over. Today and in each generation, we must rededicate ourselves to ending the hatred and discrimination that LGBTQI+ Americans continue to face. That includes addressing a wave of discriminatory laws that target them—especially transgender children—and that echo the hateful stereotypes and stigma of the Lavender Scare. My Administration is standing firmly with brave LGBTQI+ Americans to push back against these injustices.

Great nations face their history openly and honestly: the good, the bad, and the truth. Today, we make our message simple to every public servant who suffered from the un-American policies and discrimination of the Lavender Scare: We see your sacrifices. We acknowledge what you lost and what you wrongfully endured. I have mandated my Administration to do all we can to write a new chapter of our American story that will demonstrate our abiding commitment to equal rights, respect for human dignity, and limitless opportunity for all.

NOW, THEREFORE, I, JOSEPH R. BIDEN JR., President of the United States of America, by virtue of the authority vested in me by the Constitution and the laws of the United States, do hereby proclaim April 27, 2023, as the 70th Anniversary of the Lavender Scare. I call upon government officials and the people of the United States of America to honor the contributions of LGBTQI+ public servants, to recognize the lives impacted by the Lavender Scare, and to celebrate the great diversity of the American people.

IN WITNESS WHEREOF, I have hereunto set my hand this twenty-sixth day of April, in the year of our Lord two thousand twenty-three, and of the Independence of the United States of America the two hundred and forty-seventh.

[FR Doc. 2023-09258

Filed 4-28-23; 8:45 am]

Billing code 3395-F3-P